DEPARTMENT OF HOMELAND SECURITY

Federal Emergency Management Agency

44 CFR Part 67

[Docket No. FEMA-B-7783]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 25, 2008.

ADDRESSES: The corresponding preliminary Flood Insurance Rate Map (FIRM) for the proposed BFEs for each community are available for inspection at the community's map repository. The respective addresses are listed in the table below.

You may submit comments, identified by Docket No. FEMA-B-7783, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR Part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Ellsworth County, Kansas, and Incorporated Areas
Smoke Hill River | Approximately 0.65 mile downstream of the bridge on Douglas Avenue | None | +1533 | Unincorporated Areas of Ellsworth County.
| Approximately 0.50 mile upstream of the bridge on Douglas Avenue | None | +1540
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Ellsworth County
Maps are available for inspection at 210 North Kansas Street, Ellsworth, KS 67439.
Crittenden County, Kentucky, and Incorporated Areas
Ohio River | Approximately at confluence with Deer Creek (at upstream county boundary) | None | +355 | Unincorporated Areas of Crittenden County.
| Approximately at confluence with Tradewater River (at downstream county boundary) | None | +362
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Crittenden County
Maps are available for inspection at 107 South Main Street, Marion, KY 42064.
Monmouth County, New Jersey, and Incorporated Areas
Big Brook | Approximately 34 feet upstream of Boundary Road | None | +79 | Township of Colts Neck.
| At Boundary Road | None | +79
Burkes Creek | Approximately 957 feet upstream of Rutgers Road | None | +100 | Township of Howell.
| Approximately 904 feet upstream of Rutgers Road | None | +100
Deal Lake | Entire shoreline | None | +10 | Borough of Interlaken.
Deal Tributary 1 | At Wickapecko Drive | None | +11 | Borough of Interlaken.
| Approximately 342 feet downstream of Wickapecko Drive | None | +11
Doctors Creek | Approximately 915 feet upstream of South Main Street | None | +72 | Township of Upper Freehold.
| Approximately 2,565 feet upstream of South Main Street | None | +72
| At Breza Road | None | +60
| Approximately 57 feet upstream of Breza Road | None | +60
Hollow Brook | Approximately 133 feet upstream of Ridge Avenue | +10 | +13 | City of Asbury Park.
| Approximately 176 feet upstream of Ridge Avenue | +10 | +13
Little Silver Creek Tributary 2B | Approximately 95 feet downstream of Harding Road | +15 | +14 | Borough of Little Silver.
| Approximately 40 feet upstream of Harding Road | +25 | +24
Manalapan Brook | At County boundary | +75 | +76 | Township of Manalapan, Township of Millstone.
| Approximately 510 feet upstream of Moonlight Court | None | +181
Manalapan Brook Tributary A | At confluence with Manalapan Brook | +91 | +87 | Township of Manalapan.
| Approximately 1,000 feet upstream of confluence with Manalapan Brook | +92 | +89
Manalapan Brook Tributary B | At confluence with Manalapan Brook | +124 | +123 | Township of Manalapan.
| Approximately 220 feet upstream of confluence with Manalapan Brook | +124 | +123
Musquash Brook | Approximately 3,350 feet downstream of Brighton Avenue | None | +9 | Borough of Neptune City.
| Approximately 40 feet downstream of Brighton Avenue | None | +23
North Branch | At Railroad | None | +8 | Borough of Spring Lake Heights.
Wreck Pond | Approximately 1,147 feet upstream of State Highway 71 | None | +8
Poly Pond Brook | Approximately 944 feet downstream of State Highway 71 | None | +17 | Borough of Spring Lake Heights.
| Approximately 1,563 feet upstream of State Highway 71 | None | +17
Raritan Bay | Approximately 1,035 feet east of Rose Lane | None | +11 | Township of Hazlet, Borough of Keansburg, Borough of Union Beach, Township of Middletown.
| Approximately 570 feet northwest of the intersection of State Highway 36 and Laurel Avenue | None | +11
| Approximately 480 feet east of William Street | None | +11
| Approximately 1,570 feet south of the intersection of State Highway 36 and Thompson Avenue | None | +11
Shark River | Approximately 235 feet downstream of Steiner Avenue | None | +9 | Borough of Neptune City.
| Approximately 1,450 feet downstream of County Highway 17 | None | +9
Still House Brook | At confluence with Manalapan Brook | +94 | +93 | Township of Manalapan.
| Approximately 600 feet upstream of confluence with Manalapan Brook | +94 | +93
Swimming River | At Swimming River Road | None | +22 | Township of Colts Neck.
Thornes Creek | At Raritan and Sandy Hook Bay Beach Erosion and Hurricane Project Closure Gate | +4 | +11 | Township of Hazlet, Borough of Union Beach.
| At State Highway 36 | +4 | +11
Waackaack Creek | At Raritan and Sandy Hook Bay Beach Erosion and Hurricane Project Closure Gate | +4 | +11 | Township of Hazlet, Borough of Keansburg, Borough of Union Beach, Township of Holmdel.
| Approximately 800 feet downstream of Middle Road | +10 | +11
Watson Creek | Approximately 1,150 feet downstream of Blansing Avenue Extension | None | +20 | Borough of Manasquan.
| Approximately 960 feet downstream of Blansing Avenue Extension | None | +20
Whale Pond Brook | At Hope Road | None | +73 | Borough of Tinton Falls.
| Approximately 54 feet upstream of Hope Road | None | +73
Yellow Brook 2 | Approximately 600 feet downstream of Hunt Road | None | +98 | Township of Colts Neck.
| Approximately 124 feet downstream of Hunt Road | None | +98
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Borough of Interlaken
Maps are available for inspection at Interlaken Borough Hall, 100 Grasmere Avenue, Interlaken, NJ.
Borough of Keansburg
Maps are available for inspection at Keansburg Borough Municipal Building, 29 Church Street, Keansburg, NJ.
Borough of Little Silver
Maps are available for inspection at Little Silver Borough Hall, 480 Prospect Avenue, Little Silver, NJ.
Borough of Manasquan
Maps are available for inspection at Manasquan Borough Municipal Building, 201 East Main Street, Manasquan, NJ.
Borough of Neptune City
Maps are available for inspection at Borough of Neptune City Municipal Building, 106 West Sylvania Avenue, Neptune City, NJ.
Borough of Spring Lake Heights
Maps are available for inspection at Spring Lake Heights Borough Hall, 555 Brighton Avenue, Spring Lake Heights, NJ.
Borough of Tinton Falls
Maps are available for inspection at Tinton Falls Borough Municipal Building, 556 Tinton Avenue, Tinton Falls, NJ.
Borough of Union Beach
Maps are available for inspection at Union Beach Borough Municipal Building, 650 Poole Avenue, Union Beach, NJ.
City of Asbury Park
Maps are available for inspection at City of Asbury Park Municipal Building, One Municipal Plaza, Asbury Park, NJ.
Township of Colts Neck
Maps are available for inspection at Colts Neck Town Hall, 124 Cedar Drive, Colts Neck, NJ.
Township of Hazlet
Maps are available for inspection at Hazlet Township Municipal Building, 1766 Union Avenue, Hazlet, NJ.
Township of Holmdel
Maps are available for inspection at Holmdel Township Hall, 4 Crawfords Corner Road, Holmdel, NJ.
Township of Howell
Maps are available for inspection at Howell Township Municipal Building, 251 Preventorium Road, Howell, NJ.
Township of Manalapan
Maps are available for inspection at Manalapan Township Municipal Building, 120 Route 522 & Taylors Mill Road, Manalapan, NJ.
Township of Middletown
Maps are available for inspection at Middletown Township Municipal Building, One Kings Highway, Middletown, NJ.
Township of Millstone
Maps are available for inspection at Millstone Township Municipal Building, 470 Stage Coach Road, Millstone, NJ.
Township of Upper Freehold
Maps are available for inspection at Upper Freehold Township Municipal Building, 314 Route 539, Cream Ridge, NJ.

(Catalog of Federal Domestic Assistance No. 97.022, “Flood Insurance.”)

Dated: May 15, 2008.
David I. Maurstad,
Federal Insurance Administrator of the National Flood Insurance Program, Department of Homeland Security, Federal Emergency Management Agency.

[FR Doc. E8-11692 Filed 5-23-08; 8:45 am]

BILLING CODE 9110-12-P